DEPARTMENT OF COMMERCE

National Oceanic and Atmospheric Administration

50 CFR Part 622

[Docket No. 240506-0129]

RIN 0648-BM46

Fisheries of the Caribbean, Gulf of Mexico, and South Atlantic; Reef Fish Resources of the Gulf of Mexico; Amendment 56; Correction

AGENCY: National Marine Fisheries Service (NMFS), National Oceanic and Atmospheric Administration (NOAA), Commerce.

ACTION: Final rule; correction.

SUMMARY: NMFS corrects the final rule published on May 10, 2024, to implement Amendment 56 to the Fishery Management Plan for the Reef Fish Resources of the Gulf of Mexico (Amendment 56). The final rule excluded a reference to the recreational annual catch target in the recreational accountability measures for gag. This correction fixes that omission.

DATES: This correction is effective on June 1, 2024.

FOR FURTHER INFORMATION CONTACT: Jack McGovern, NMFS Southeast Regional Office, phone: 727-204-5518, email: john.mcgovern@noaa.gov.

SUPPLEMENTARY INFORMATION: In the final rule to implement Amendment 56 (89 FR 40419, May 10, 2024), NMFS modified the recreational accountability measures (AMs) in 50 CFR 622.41(d)(2)(ii) and (iii) to reflect the changes in Amendment 56. However, NMFS mistakenly omitted reference to the recreational annual catch target (ACT) in § 622.41(d)(2)(iii), which describes the recreational AMs that are applicable if recreational landings exceed the recreational annual catch limit (ACL) and gag in the Gulf of Mexico is overfished based on the most recent Status of U.S. Fisheries Report to Congress. Under those circumstances, NMFS reduces both the recreational ACL and ACT for the following fishing year by the amount of the recreational ACL overage in the previous fishing year. In the final rule preamble on page 40422 and in response to Comment 23 on page 40430, NMFS correctly described the recreational AMs and corrects the final rule accordingly.

Federal Register Correction

Effective June 1, 2024, in rule document 2024-10208 at 89 FR 40419 in the issue of May 10, 2024, on page 40436, in the second column, in amendatory instruction 5, paragraph (d)(2)(iii) is corrected to read as follows:

§ 622.41 [Corrected]

* * * * *

(d) * * *

(2) * * *

(iii) In addition to the measures specified in paragraph (d)(2)(ii) of this section, if the NMFS SRD estimates that gag recreational landings have exceeded the applicable ACL specified in paragraph (d)(2)(i) of this section and gag is overfished based on the most recent Status of U.S. Fisheries Report to Congress, the following measure will apply. The AA will file a notification with the Office of the Federal Register, at or near the beginning of the following fishing year, to reduce the recreational ACL and ACT for that following year by the amount of the ACL overage in the prior fishing year, unless the best scientific information available determines that a greater, lesser, or no overage adjustment is necessary.

* * * * *

Dated: May 23, 2024.
Samuel D. Rauch III,
Deputy Assistant Administrator for Regulatory Programs, National Marine Fisheries Service.

[FR Doc. 2024-11698 Filed 5-28-24; 8:45 am]

BILLING CODE 3510-22-P